FEDERAL RESERVE SYSTEM

Notice of Proposals To Engage in Permissible Nonbanking Activities or To Acquire Companies That Are Engaged in Permissible Nonbanking Activities; Correction

This notice corrects a notice (FR Doc. 2011-20130) published on pages 48862 and 48863 of the issue for Tuesday, August 9, 2011.

Under the Federal Reserve Bank of New York heading, the entry for ES Bancshares, Newburgh, New York, is revised to read as follows:

A. Federal Reserve Bank of New York (Ivan Hurwitz, Vice President) 33 Liberty Street, New York, New York 10045-0001:

1. ES Bancshares Inc., Newburgh, New York; to engage de novo through its newly formed subsidiary, Empire Lockbox Settlements, Inc., Newburgh, New York, in servicing extensions of credit, including factoring, for the company's account or the account of others, pursuant to section 225.28(b)(1) of Regulation Y.

Comments on this application must be received by August 24, 2011.

Board of Governors of the Federal Reserve System, August 9, 2011.
Robert deV. Frierson,
Deputy Secretary of the Board.

[FR Doc. 2011-20591 Filed 8-12-11; 8:45 am]

BILLING CODE 6210-01-P